DEPARTMENT OF TRANSPORTATION

Federal Aviation Administration

Notice of Opportunity for Public Comment on Surplus Property Release at McKinnon St. Simons Island Airport, Brunswick, GA

AGENCY: Federal Aviation Administration (FAA), DOT.

ACTION: Notice.

SUMMARY: Under the provisions of Title 49, U.S.C. 47153(c), notice is being given that the FAA is considering a request from Glynn County to waive the requirement that approximately 3.17 acres of surplus property, located at the McKinnon St. Simons Island Airport, be used for aeronautical purposes.

DATES: Comments must be received on or before June 29, 2006.

ADDRESSES: Comments on this notice may be mailed or delivered in triplicate to the FAA at the following address: Atlanta Airports District Office, Attn: John R. Marshall, Program Manager, 1701 Columbia Ave., Suite 2-260, Atlanta, GA 30337-2747.

In addition, one copy of any comments submitted to the FAA must be mailed or delivered to Mr. Gary Moore, County Attorney, at the following address: 701 G Street, Second Floor, Brunswick, Georgia 31520.

FOR FURTHER INFORMATION CONTACT: John R. Marshall, Program Manager, Atlanta Airports District Office, 1701 Columbia Ave., Suite 2-260, Atlanta, GA 30337-2747, (404) 305-7153. The application may be reviewed in person at this same location.

SUPPLEMENTARY INFORMATION: The FAA is reviewing a request by Glynn County to release approximately 3.17 acres of surplus property at the McKinnon St. Simons Island Airport. The property consists of several parcels roughly located East of Runway 22 and along Demere Road. This property is currently shown on the approved Airport Layout Plan as aeronautical use land; however the property is currently not being used for aeronautical purposes and the existing use of this property is compatible with airport operations.

Any person may inspect the request in person at the FAA office listed above under FOR FURTHER INFORMATION CONTACT. In addition, any person may, upon request, inspect the request, notice and other documents germane to the request in person at the Glynn County Courthouse.

Issued in Atlanta, Georgia on May 22, 2006.
Scott L. Seritt,
Manager, Atlanta Airports District Office, Southern Region.

[FR Doc. 06-4938 Filed 5-26-06; 8:45 am]

BILLING CODE 4910-13-M